DEPARTMENT OF COMMERCE

National Oceanic and Atmospheric Administration

50 CFR Part 660

[Docket No. 001226367-01; I.D. 110901A]

Fisheries off West Coast States and in the Western Pacific; Pacific Coast Groundfish Fishery; Whiting Closure for the Catcher/Processor Sector

AGENCY: National Marine Fisheries Service (NMFS), National Oceanic and Atmospheric Administration (NOAA), Commerce.

ACTION: Fishing restrictions; request for comments.

SUMMARY: NMFS announces closure of the 2001 catcher/processor fishery for Pacific whiting (whiting) at 1800 hours local time (l.t.) November 13, 2001, because the allocation for the catcher/processor sector will be reached by that time. This action is intended to keep the harvest of whiting within the 2001 allocation levels.

DATES: Effective from 1800 hours l.t. November 13, 2001, until the start of the 2002 primary season for the catcher/processor sector, unless modified, superseded or rescinded. Comments will be accepted through December 3, 2001.

ADDRESSES: Submit comments to D. Robert Lohn, Administrator,Northwest Region, NMFS, 7600 Sand Point Way NE., Seattle, WA 98115-0070; or Rod McInnis, Acting Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. On January 11, 2001 (66 FR 2338), the levels of allowable biological catch (ABC), the optimum yield (OY) and the commercial OY (the OY minus the tribal allocation) for U.S. harvests of whiting were announced in the Federal Register. For 2001 the whiting ABC and OY are 190,400 metric tons (mt) and the commercial OY is 162,900 mt.

Regulations at 50 CFR 660.323 (a)(4) divide the commercial OY into separate allocations for the non-tribal catcher/processor, mothership, and shore-based sectors of the whiting fishery. The catcher/processor sector is composed of vessels that harvest and process whiting. The mothership sector is composed of motherships, and catcher vessels that harvest whiting for delivery to motherships. Motherships are vessels that process, but do not harvest. The shoreside sector is composed of vessels that harvest whiting for delivery to shoreside processors. Each of these sectors receives a portion of the commercial OY. In 2001, the catcher/processors received 34 percent, motherships received 24 percent, and the shore-based sector received 42 percent. When applied to the commercial OY for 2001 this resulted in the following allocations: 55,386 mt for the catcher/processors, 39,096 mt for the motherships, and 68,418 mt for the shore-based sector.

On August 31, 2001, NMFS received notification from the treaty Indian participants indicating that 10,000 mt of the tribal whiting allocation was not expected to be harvested before the end of the fishing year. As a result, NMFS announced the reapportionment of that whiting, 3,400 mt of which was apportioned to the catcher/processor sector (66 FR 48370, September 20, 2001). Therefore, the allowable harvest for the catcher/processor sector in 2001 was 58,786 mt (55,386 mt + 3,400 mt).

Regulations at 50 CFR 660.323 (a)(3)(i) describe the primary season for catcher/processors as the period(s) when at-sea processing is allowed and the fishery is open for the catcher/processor sector. When each sector's allocation is reached, the primary season for that sector ends.

NMFS Action

This action announces achievement of the allocation for the catcher/processor sector only. The best available information on November 9, 2001, indicated that the 58,786 mt catcher/processor allocation would be reached by 1800 hours l.t., November 13, 2001, at which time the primary season for the catcher/processor sector ends.

For the reasons stated here and in accordance with the regulations at 50 CFR 660.323 (a)(4)(iii)(A), NMFS herein announces that effective 1800 hours l.t., November 13, 2001, further taking and retaining, receiving or at-sea processing of whiting by a catcher/processor is prohibited. No additional unprocessed whiting may be brought on board after at-sea processing is prohibited, but a catcher/processor may continue to process whiting that was on board before at-sea processing was prohibited.

Classification

This action is authorized by the regulations implementing the FMP. The determination to take this action is based on the most recent data available. The aggregate data upon which the determination is based are available for public inspection at the Office of the Regional Administrator (see ADDRESSES) during business hours. This action is taken under the authority of 50 CFR 660.323 (a)(4)(iii)(A) and is exempt from review under Executive Order 12866.

Authority: 16 U.S.C. 1801 et seq.

Dated: November 13, 2001.
Richard W. Surdi,
Acting Director, Office of Sustainable Fisheries, National Marine Fisheries Service.

[FR Doc. 01-28744 Filed 11-13-01; 3:43 pm]

BILLING CODE 3510-22-S